COMMODITY FUTURES TRADING COMMISSION

Sunshine Act Meetings

AGENCY HOLDING THE MEETING: Commodity Futures Trading Commission.

Time and Date: 11 a.m., Friday, May 29, 2009.

Place: 1155 21st St., NW., Washington, DC, 9th Floor Commission Conference Room.

Status: Closed.

Matters To Be Considered: Surveillance Matters.

Contact Person for More Information: Sauntia S. Warfield, 202-418-5084.

Sauntia S. Warfield,
Assistant Secretary of the Commission.

[FR Doc. E9-9698 Filed 4-24-09; 11:15 am]

BILLING CODE 6351-01-P